DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Voluntary Partner Surveys in the Health Resources and Services Administration—(OMB No. 0915-0212): Extension

In response to Executive Order 12862, the Health Resources and Services Administration (HRSA) conducts voluntary customer surveys of its partners to assess strengths and weaknesses in program services. To continue the periodic customer or partner satisfaction survey activities, HRSA is requesting an extension of approval from OMB. HRSA partners are, typically, State or local governments, health care facilities, health care consortia, and health care providers. Partner surveys to be conducted by HRSA might include, for example, brief surveys of grantees to determine satisfaction with a technical assistance contractor, or, in-class evaluation forms completed by providers who receive training from HRSA grantees, to measure satisfaction with the training experience. Results of these surveys will be used to plan and direct program efforts as needed to improve service. Focus groups may also be used as a potential method to obtain input on services and training. Focus groups, in-class evaluation surveys, and satisfaction surveys provide valuable input from HRSA partners and customers on agency services and materials.

The estimated annual burden is as follows:

Instrument | Number of respondents | Responses per respondent | Total responses | Hours per response | Total burden hours
Surveys | 50,000 | 1 | 50,000 | .1 | 5,000
Focus groups | 50 | 1 | 50 | 1.5 | 75
Total | 50,050 |  | 50,050 |  | 5,075

Written comments and recommendations concerning the proposed information collection should be sent within 30 days of this notice to the desk officer for HRSA, either by e-mail to OIRA_submission@omb.eop.gov or by fax to 202-395-6974. Please direct all correspondence to the “attention of the desk officer for HRSA.”

Dated: April 17, 2009.
Alexandra Huttinger,
Director, Division of Policy Review and Coordination.

[FR Doc. E9-9383 Filed 4-23-09; 8:45 am]

BILLING CODE 4165-15-P